DEPARTMENT OF ENERGY

Federal Energy Regulatory Commission

[Project No. 3240-040; Project No. 6689-018; Project No. 3342-025] New

Briar Hydro Associates, LLC; New Hampshire Rolfe Canal Hydroelectric Project, New Hampshire Penacook Upper Falls Hydroelectric Project, New Hampshire Penacook Lower Falls Hydroelectric Project; Notice of Waiver Period for Water Quality Certification Application

Date of Receipt of the Certification Requests: November 4, 2024.

Reasonable Period of Time to Act on the Certification Requests: One year, November 4, 2025.

If the New Hampshire Department of Environmental Services fails or refuses to act on the water quality certification requests on or before the above date, then the agency certifying authority is deemed waived pursuant to section 401(a)(1) of the Clean Water Act, 33 U.S.C. 1341(a)(1).

Dated: December 23, 2024.
Debbie-Anne A. Reese,
Secretary.

[FR Doc. 2024-31431 Filed 12-30-24; 8:45 am]

BILLING CODE 6717-01-P